DEPARTMENT OF THE INTERIOR

Minerals Management Service

AGENCY: Minerals Management Service, Interior.

ACTION: Availability of Revised Outer Continental Shelf (OCS) Official Protraction Diagram.

SUMMARY: Notice is hereby given that effective with this publication, the following NAD 27-based OCS Official Protraction Diagram last revised on the date indicated, is on file and available for information only, in the Gulf of Mexico OCS Regional Office, New Orleans, Louisiana. In accordance with Title 43, Code of Federal Regulations, this diagram is the basic record for the description of minerals and oil and gas lease sales in the geographic area it represents.

Description | Date
NG15-09, Amery Terrace | Oct. 25, 2000.

FOR FURTHER INFORMATION CONTACT: Copies of Leasing Maps and Official Protraction Diagrams are $2.00 each. These may be purchased from the Public Information Unit, Information Services Section, Gulf of Mexico OCS Region, Minerals Management Service, 1201 Elmwood Park Boulevard, New Orleans, Louisiana 70123-2394, Telephone (504) 736-2519.

Dated: November 2, 2000.
Thomas A. Readinger,
Acting Associate Director for Offshore Minerals Management.

[FR Doc. 00-28600 Filed 11-7-00; 8:45 am]

BILLING CODE 4310-MR-M